DEPARTMENT OF THE INTERIOR

National Park Service

[NPS-WASO-NAGPRA-NPS0032427; PPWOCRADN0-PCU00RP14.R50000]

Notice of Inventory Completion: Alabama Department of Transportation, Montgomery, AL

AGENCY: National Park Service, Interior.

ACTION: Notice.

SUMMARY: The Alabama Department of Transportation (ALDoT) has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Alabama Department of Transportation. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Alabama Department of Transportation at the address in this notice by September 16, 2021.

FOR FURTHER INFORMATION CONTACT: William B. Turner, Alabama Department of Transportation, 1409 Coliseum Boulevard, Montgomery, AL 36110, telephone (334) 242-6144, email turnerw@dot.state.al.us.

SUPPLEMENTARY INFORMATION: Notice is here given in accordance with the Native American Graves Protection and Repatriation Act (NAGPRA), 25 U.S.C. 3003, of the completion of an inventory of human remains under the control of the Alabama Department of Transportation, Montgomery, AL. The human remains were removed from the Mount Hope Site (1La601), Lawrence County, AL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of Alabama and the Alabama Department of Transportation professional staff in consultation with representatives of the Cherokee Nation; Eastern Band of Cherokee Indians; The Chickasaw Nation; and the United Keetoowah Band of Cherokee Indians in Oklahoma (hereafter referred to as “The Tribes”). [During a 6 February 2020 conference call that included representatives from The Tribes and ALDoT, it was agreed that Chickasaw Nation would take the lead and that ALDoT could proceed with a Notice of Inventory Completion for the human remains from 1La601].

History and Description of the Remains

During Phase III Data Recovery fieldwork in the Winter of 1994-1995, human remains representing, at minimum, one individual were removed from the Mount Hope Site (1La601) in Lawrence County, AL. Given difficult field conditions and the fragmentary nature of the human remains, accurate identification of the remains occurred only during subsequent laboratory work conducted at the University of Alabama Laboratory of Human Osteology. Based on the size and general features of the cranial fragments, the remains were determined to belong to a single adult who had been cremated. Given the fragmentary nature of the human remains and lack of identifying landmarks, specific age, sex, pathology, or trauma could not be determined. A total of 83 fragments was identified, 23 cranial and 60 post cranial. Recognizable cranial fragments include two frontal, two parietal, two mandible, and six temporal fragments. Limited evidence suggests that the post cranial fragments could be from upper limb bones. No known individual was identified. No associated funerary objects are present.

Determinations Made by the Alabama Department of Transportation

Officials of the Alabama Department of Transportation have determined that:

• Pursuant to 25 U.S.C. 3001(9), the human remains described in this notice are Native American, based on their cremated state and their recovery from a Pre-European Contact archeological site containing Paleoindian, Early Archaic, Middle Archaic, Late Archaic, and Woodland components. Given the depth of recovery, the human remains are to be associated with the most intensive period of site usage, which has been radiocarbon dated to around 7240 years B.P.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Tribes.

• Treaties, Acts of Congress, or Executive Orders, indicate that the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to the Alabama Department of Transportation, 1409 Coliseum Boulevard, Montgomery, AL 36110, telephone (334) 242-6144, email turnerw@dot.state.al.us, by September 16, 2021. After that date, if no additional requestors have come forward, transfer of control of the human remains to The Tribes may proceed.

The Alabama Department of Transportation is responsible for notifying The Tribes that this notice has been published.

Dated: August 4, 2021.
Melanie O'Brien,
Manager, National NAGPRA Program.

[FR Doc. 2021-17563 Filed 8-16-21; 8:45 am]

BILLING CODE 4312-52-P